DEPARTMENT OF TRANSPORTATION

Federal Transit Administration

Announcement of Fiscal Year 2024 Low or No Emission Program and Grants for Buses and Bus Facilities Program and Project Selections

AGENCY: Federal Transit Administration (FTA), Department of Transportation (DOT).

ACTION: Notice of project selections and implementation guidance.

SUMMARY: The U.S. Department of Transportation's (DOT) Federal Transit Administration (FTA) announces the award of a total of $1,497,553,559, including $1,107,355,187 to projects under the Fiscal Year (FY) 2024 Low or No Emission Grant Program (Low-No) and $390,198,372 to projects under the Grants for Buses and Bus Facilities Program (Buses and Bus Facilities Program) and provides administrative guidance on project implementation.

FOR FURTHER INFORMATION CONTACT: Successful applicants should contact the appropriate FTA Regional Office for information regarding applying for the funds or program-specific information. A list of Regional Offices can be found at https://www.transit.dot.gov/about/regional-offices/regional-offices. Unsuccessful applicants may contact Kirsten Wiard-Bauer, Office of Program Management, at 202-366-7052 or email ftalownobusnofo@dot.gov within 30 days of this announcement to arrange a proposal debriefing. Unsuccessful applicants that received an overall rating of Highly Recommended may potentially only receive feedback via email. A TDD is available at 1-800-877-8339 (TDD/FIRS).

SUPPLEMENTARY INFORMATION: Federal public transportation law (49 U.S.C. 5339(b)) authorizes FTA to make competitive grants for the Buses and Bus Facilities Program. Federal public transportation law (49 U.S.C. 5339(c)) authorizes FTA to make competitive grants for the Low-No Program.

Federal public transportation law (49 U.S.C. 5338(a)(2)(M)) authorized $393,559,749 in FY 2024 funds for the Buses and Bus Facilities Program. After the oversight takedown of $3,513,926, the total funding available is $390,045,823 for the Buses and Bus Facilities Program. FTA is also making additional prior year funding available for this round, bringing the total available funding to $390,198,372.

Federal public transportation law (49 U.S.C. 5338(a)(2)(M)) authorized $74,963,762 in FY 2024 funds for the Low or No Emission Grant Program. An additional $1,029,000,000 was appropriated under the 2021 Infrastructure Investment and Jobs Act (also known as the “Bipartisan Infrastructure Law”), Public Law 117-58, after accounting for the authorized takedown for administrative and oversight expenses and the Office of Inspector General (OIG). After the oversight takedown and transfer to the OIG and the addition of prior year funding, a total of $1,108,489,337 was made available for the Low-No program in FY 2024.

On February 8, 2024, FTA published a joint Notice of Funding Opportunity (NOFO) announcing the availability of approximately $390 million in FY 2024 Buses and Bus Facilities Program funds and approximately $1.10 billion in Low-No funds (89 FR 8741). Consistent with the NOFO, which stated that FTA “may award additional funding that is made available to the programs prior to the announcement of project selections,” FTA is electing to add prior years' unallocated funds for Buses and Bus Facilities Program and Low-No to this funding opportunity. These funds will provide financial assistance to states and eligible public agencies to replace, rehabilitate, purchase, or lease buses, vans, and related equipment; and for capital projects to rehabilitate, purchase, construct, or lease bus-related facilities. For the Low-No Program, projects must be directly related to the low or no-emission vehicles within the fleet. In response to the NOFO, FTA received 477 eligible project proposals totaling approximately $9.0 billion in Federal funds. Project proposals were evaluated based on each applicant's responsiveness to the program evaluation criteria outlined in the NOFO.

Based on the criteria in the NOFO, FTA is funding 62 projects, as shown in Tables 1 and 2, for a total of $1,107,355,187 for the Low-No Program and 55 projects, as shown in Table 3, for a total of $390,198,372 for the Buses and Bus Facilities Program. A minimum of 15 percent of the amount made available for the Buses and Bus Facilities Program is set aside for projects located in rural areas, which is reflected in FTA's selections. A statutory cap of 10 percent for any one applicant in the Buses and Bus Facilities Program is reflected as well. A minimum of 25 percent of the amount made available for the Low-No Program is set aside for projects related to the acquisition of low emission buses or bus facilities. Recipients selected for funding under the low-emission set-aside are designated in Table 2, and may implement only low emission projects.

Recipients selected for competitive funding are required to work with their FTA Regional Office to submit a grant application in FTA's Transit Award Management System (TrAMS) for the projects identified in the attached table to quickly obligate funds. Grant applications must include only eligible activities applied for in the original project application. Funds must be used consistent with the competitive proposal and for the eligible capital purposes described in the NOFO. Recipients selected for funding must implement the project in accordance with any additional considerations/priority considerations that the applicant indicated their intent to comply with in Section IV of the application's Supplemental Form, unless otherwise permitted by FTA. This includes, but is not limited to, the use of progress payments unless the vehicle manufacturer identifies to the recipient that it will provide a more advantageous price in their absence.

In cases where the allocation amount is less than the proposer's total requested amount, recipients are required to fund the scalable project option as described in the application. If the award amount does not correspond to the scalable option, the recipient should work with the Regional Office to reduce scope or scale the project such that a complete phase or project is accomplished. Recipients may also provide additional local funds to complete a proposed project. A discretionary project identification number has been assigned to each project for tracking purposes and must be used in the TrAMS application.

Selected projects are eligible to incur costs under pre-award authority no earlier than the date projects were publicly announced. Pre-award authority does not guarantee that project expenses incurred prior to the award of a grant will be eligible for reimbursement, as eligibility for reimbursement is contingent upon other requirements, such as planning and environmental requirements, having been met. For more about FTA's policy on pre-award authority, please see the current FTA Apportionments, Allocations, and Program Information at https://www.transit.dot.gov/funding/apportionments. Post-award reporting requirements include submission of Federal Financial Reports and Milestone Progress Reports in TrAMS (see FTA Circular 5010.1E). Recipients must comply with all applicable Federal statutes, regulations, executive orders, FTA circulars, and other Federal requirements in carrying out the project supported by the FTA grant. FTA emphasizes that recipients must follow all third-party procurement requirements set forth in Federal public transportation law (49 U.S.C. 5325(a)) and described in the FTA Third Party Contracting Guidance Circular (FTA Circular 4220.1). Funds allocated in this announcement must be obligated in a grant by September 30, 2027.

Technical Review and Evaluation Summary: FTA assessed all project proposals that were submitted under the FY 2024 Buses and Bus Facilities Program and the Low-No Program competition according to the following evaluation criteria. The specific metrics for each criterion were described in the February 2024 NOFO:

1. Demonstration of Need

2. Demonstration of Benefits

3. Planning/Local Prioritization

4. Local Financial Commitment

5. Project Implementation Strategy

6. Technical, Legal, and Financial Capacity

For each project, a technical review panel assigned a rating of Highly Recommended, Recommended, or Not Recommended for each of the six criteria. The technical review panel then assigned an overall rating of Highly Recommended, Recommended, Not Recommended, or Ineligible to the project proposal.

New in FY 2024, FTA introduced a streamlined application for Tribal applicants requesting less than $1 million in order to reduce the burden of application for Tribes with smaller requests and encourage more Tribal applications. Such applicants were only required to provide a full response to Demonstration of Need and Local Financial Commitment, and a shortened response to Project Implementation Strategy. Tribes with requests of less than $1 million had to meet statutory requirements, such as attaching a fleet transition plan to zero-emission applications, but did not need to provide responses related to any Administration priorities described as additional considerations or priority considerations in the NOFO or application Supplemental Form.

Projects were assigned a final overall rating of Highly Recommended if they were rated Highly Recommended in at least four categories overall, with no Not Recommended ratings. Projects were assigned a final overall rating of Recommended if the projects had three or more Recommended ratings and no Not Recommended ratings. Projects were assigned a rating of Not Recommended if they received a Not Recommended rating in any criteria. A summary of the final overall ratings for all 477 eligible project proposals is shown in the table below.

Overall Project Ratings
[Eligible submissions]
| Bus | Low-No | Total
Highly Recommended | 179 | 163 | 342
Recommended | 34 | 21 | 55
Not Recommended | 50 | 30 | 80
Total | 263 | 214 | 477

As outlined in the NOFO, FTA made the final selections based on the technical ratings as well as geographic diversity, diversity in the size of transit systems receiving funding, additional considerations/priority considerations, including procurement methods to reduce customization, intent to use advance or progress payments, climate change and sustainability, an application's zero-emission fleet transition plan supporting a full fleet transition, workforce involvement, the creation of good-paying jobs, and the Justice40 initiative.

As further outlined in the NOFO, in some cases, due to funding limitations, proposers who were selected for funding received less than the amount originally requested.

Veronica Vanterpool,
Acting Administrator.

Table 1—FY 2024 Low or No Emission Project Selections
[These projects are funded with funding other than the low emission set aside and may be low or zero emission consistent with their application]
[Note: Some projects have multiple project IDs]
State | Recipient | Project ID | Project description | Award
CA | Alameda-Contra Costa Transit District | D2024-LWNO-002 | Purchase battery electric buses to replace diesel buses and infrastructure to support charging and maintenance | $15,000,000
CA | City of Commerce Transit | D2024-LWNO-003 | Construct new zero emission facility and purchase battery electric buses to replace CNG and gasoline buses | 14,229,180
CA | Los Angeles County Metropolitan Transportation Authority | D2024-LWNO-005 | Purchase battery electric buses to replace CNG buses and charging infrastructure | 77,536,675
CA | Omnitrans | D2024-LWNO-006 | Purchase battery-electric buses and charging equipment | 8,447,217
CA | Sacramento Regional Transit District | D2024-LWNO-007 | Convert existing facility into a zero-emission maintenance facility and purchase hydrogen fuel cell buses to replace CNG buses | 76,847,678
CA | Western Contra Costa Transit Authority | D2024-LWNO-008 | Purchase hydrogen fuel cell buses to replace diesel buses and mobile fueling infrastructure | 20,646,189
CO | Colorado Department of Transportation, on behalf of Eagle Valley Transportation Authority | D2024-LWNO-010 and D2024-LWNO-011 | Purchase of replacement buses | 4,573,000
CO | Colorado Department of Transportation, on behalf of Roaring Fork Transportation Authority | D2024-LWNO-012 | Convert existing facility to support zero emission buses | 32,837,664
CT | State of Connecticut Department of Transportation | D2024-LWNO-013 | Purchase battery electric buses and charging infrastructure to replace diesel and diesel-hybrid buses | 38,888,800
FL | Broward County | D2024-LWNO-014 | Purchase battery electric buses and charging infrastructure to replace diesel hybrid buses | 25,000,000
FL | City of Tallahassee | D2024-LWNO-017 | Purchase battery electric buses and charging infrastructure | 11,374,042
FL | Escambia County Board of County Commissioners | D2024-LWNO-018 | Purchase battery electric buses and charging infrastructure | 21,272,962
FL | Pinellas Suncoast Transit Authority | D2024-LWNO-019 | Purchase battery electric buses and charging infrastructure | 27,805,012
IA | University of Iowa | D2024-LWNO-021 | Purchase battery electric buses to replace diesel buses and convert existing facility to support electric buses | 16,376,762
ID | Idaho Department of Transportation, on behalf of Mountain Rides Transportation Authority | D2024-LWNO-022 | Purchase battery electric buses and charging infrastructure | 4,228,500
IL | Greater Peoria Mass Transit District | D2024-LWNO-023 | Purchase battery electric buses and charging infrastructure to replace diesel buses | 14,415,095
IL | Rock Island County Metropolitan Mass Transit District | D2024-LWNO-025 | Convert facility to support charging infrastructure and other elements specific to existing battery electric bus fleet | 10,000,000
IN | Fort Wayne Public Transportation Corporation | D2024-LWNO-027 | Purchase diesel-electric hybrid buses to replace diesel buses | 10,987,062
IN | Greater Lafayette Public Transportation Corporation | D2024-LWNO-028 | Purchase hydrogen and CNG buses and install a hydrogen fueling station | 10,531,030
MA | Massachusetts Bay Transportation Authority | D2024-LWNO-033 | Purchase battery electric buses | 40,000,000
MA | Massachusetts Department of Transportation, on behalf of the Martha's Vineyard Transit Authority | D2024-LWNO-034 | Purchase battery electric buses and charging infrastructure | 3,882,375
MD | Prince George's County Government | D2024-LWNO-035 | Purchase battery electric buses and related charging infrastructure | 25,475,520
MI | Ann Arbor Area Transportation Authority | D2024-LWNO-036 | Purchase of hydrogen fuel cell buses and charging infrastructure, along with hybrid buses to replace diesel buses | 25,000,000
MI | Detroit Department of Transportation | D2024-LWNO-037 | Purchase electric hybrid buses to replace diesel buses | 30,794,240
NC | City of Fayetteville | D2024-LWNO-040 | Purchase battery electric buses and charging infrastructure to replace diesel buses | 6,667,462
NC | City of Greensboro | D2024-LWNO-041 | Purchase of battery electric and electric-diesel hybrid buses to replace diesel buses | 22,411,172
NJ | New Jersey Transit Corporation | D2024-LWNO-044 | Purchase of battery electric buses to replace diesel buses and convert existing facility to support electric buses | 99,499,531
NV | Tahoe Transportation District | D2024-LWNO-045 | Purchase electric hybrid buses | 7,901,826
NY | Broome County Department of Public Transportation | D2024-LWNO-046 | Purchase battery electric buses, charging infrastructure, and an energy storage system | 8,883,743
NY | Central New York Regional Transportation Authority | D2024-LWNO-047 | Purchase hydrogen fuel cell buses and fueling infrastructure | 7,260,435
OH | Central Ohio Transit Authority | D2024-LWNO-050 | Purchase battery electric, hydrogen fuel cell buses, and related charging infrastructure to replace diesel buses | 22,849,800
OR | Tri-County Metropolitan Transportation District of Oregon | D2024-LWNO-053 | Purchase hydrogen fuel cell buses, mobile fueling station and update existing facility | 39,000,000
UT | Utah Department of Transportation on behalf of High Valley Transit District | D2024-LWNO-058 | Purchase battery electric buses to replace diesel buses and charging infrastructure | 16,275,560
UT | Utah Transit Authority | D2024-LWNO-059 | Purchase of battery electric buses to replace diesel buses | 18,112,632
VT | Vermont Agency of Transportation, in partnership with three rural transit agencies | D2024-LWNO-061 | Rehabilitate existing facility to support battery electric buses | 2,300,542
WA | Chelan Douglas Public Transportation Benefit Area dba Link Transit | D2024-LWNO-062 | Purchase battery electric buses to replace gasoline buses | 4,462,500
WI | City of Green Bay Transit System | D2024-LWNO-063 | Purchase battery electric buses and charging infrastructure | 3,112,663
Total |  |  |  | 824,886,869

Table 2—FY 2024 Low or No Emission Project Selections
[These projects are funded through the low emission set aside and must be low emission only]
State | Recipient | Project ID | Project description | Award
AR | Rock Region Metropolitan Transit Authority | D2024-LWNO-001 | Purchase CNG Buses to replace diesel buses | $3,149,667
CA | Kings County Area Public Transit Agency | D2024-LWNO-004 | Rehabilitation of CNG fueling station | 1,610,875
CO | City of Greeley | D2024-LWNO-009 | Purchase of expansion CNG buses | 3,508,404
FL | Central Florida Regional Transportation Authority dba LYNX | D2024-LWNO-015 | Purchase CNG buses to replace diesel buses | 27,609,656
FL | City of Gainesville dba Gainesville Regional Transit System | D2024-LWNO-016 | Purchase diesel hybrid buses and charging infrastructure to replace diesel buses | 26,490,000
FL | Volusia Transit Management | D2024-LWNO-020 | Purchase of replacement propane paratransit buses | 1,625,564
IL | Pace, the Suburban Bus Division of the Regional Transportation Authority | D2024-LWNO-024 | Purchase electric hybrid buses to replace diesel buses | 30,911,000
IL | Springfield Mass Transit District | D2024-LWNO-026 | Purchase diesel-hybrid buses to replace diesel and CNG buses | 17,807,630
KY | Transit Authority of the Lexington-Fayette Urban County Government | D2024-LWNO-029 | Purchase CNG buses | 4,223,340
LA | Jefferson Parish Transit | D2024-LWNO-030 | Purchase replacement electric hybrid buses and rehabilitate bus stops | 5,459,550
LA | SporTran | D2024-LWNO-031 | Purchase CNG buses to replace gasoline buses | 11,169,846
MA | Cape Cod Regional Transit Authority | D2024-LWNO-032 | Purchase of electric hybrid buses to replace diesel buses | 14,613,149
MN | Minnesota Department of Transportation, on behalf of two rural transit systems | D2024-LWNO-038 | Purchase of replacement propane buses | 2,303,200
MO | Bi-State Development Agency of the Missouri-Illinois Metropolitan District, Inc | D2024-LWNO-039 | Purchase of diesel-electric hybrid buses to replace diesel buses | 10,380,591
NC | City of Winston-Salem | D2024-LWNO-042 | Purchase electric-diesel hybrid buses | 4,444,757
NH | University of New Hampshire | D2024-LWNO-043 | Purchase of replacement CNG buses | 2,720,000
NY | County of Westchester | D2024-LWNO-048 | Replace Bee-Line Diesel Coach Fleet with Hybrid Electric Buses | 12,431,250
NY | Tompkins County, New York on behalf of Tompkins Consolidated Area Transit | D2024-LWNO-049 | Purchase of electric hybrid buses to replace diesel buses | 1,215,776
OK | City of Lawton | D2024-LWNO-051 | Purchase electric hybrid buses to replace diesel buses | 6,116,854
OK | Metropolitan Tulsa Transit Authority | D2024-LWNO-052 | Purchase CNG buses to replace diesel buses | 1,314,090
SC | City of Clemson dba Clemson Area Transit | D2024-LWNO-054 | Purchase CNG buses to replace diesel buses | 4,671,859
SD | South Dakota Department of Transportation, on behalf of three rural transit systems | D2024-LWNO-055 | Purchase of propane buses to replace diesel buses | 1,615,000
TX | City of El Paso Mass Transit Department | D2024-LWNO-056 | Purchase low emission buses and convert existing facility to support low emission fleet | 30,597,000
TX | Corpus Christi Regional Transportation Authority | D2024-LWNO-057 | Purchase CNG buses | 5,888,040
VA | County of Fairfax, Virginia | D2024-LWNO-060 | Purchase electric-diesel hybrid buses | 50,591,220
Total |  |  |  | 282,468,318

Table 3—FY 2024 Buses and Bus Facilities Project Selections
[Note: Some projects have multiple project IDs]
State | Recipient | Project ID | Project description | Award
AK | City and Borough of Juneau | D2024-BUSC-001 | Purchase battery electric buses and charging infrastructure | $11,855,112
AL | City of Montgomery | D2024-BUSC-002 | Purchase battery electric buses, charging infrastructure, and an energy storage system | 16,941,377
AZ | City of Tucson | D2024-BUSC-003 | Rehabilitation of existing transit facilities | 11,385,600
AZ | Salt River Pima-Maricopa Indian Community | D2024-BUSC-004 | Purchase replacement buses | 425,001
CA | City of Davis | D2024-BUSC-005 | Purchase infrastructure and chargers related to battery electric buses and make improvements to existing facility | 1,600,000
CA | California Department of Transportation, on behalf of Humboldt Transit Authority | D2024-BUSC-006 | Purchase replacement buses | 639,000
CA | California Department of Transportation, on behalf of Lassen Transit Service Agency | D2024-BUSC-007 | Purchase replacement bus | 154,367
CA | California Department of Transportation, on behalf of Morongo Basin Transit Authority | D2024-BUSC-008 | Purchase a battery electric bus to replace a CNG bus | 131,168
CA | California Department of Transportation, on behalf of Redwood Coast Transit Authority | D2024-BUSC-009 | Purchase replacement buses | 474,478
CA | San Luis Obispo Regional Transit Authority | D2024-BUSC-010 | Purchase battery electric buses to replace diesel and gasoline buses | 2,572,888
CA | Santa Barbara Metropolitan Transit District | D2024-BUSC-011 | Purchase battery electric buses to replace diesel buses | 2,894,131
CA | Twenty-Nine Palms Band of Mission Indians | D2024-BUSC-012 | Construct a new facility and purchase expansion buses | 3,226,457
CO | City of Fort Collins | D2024-BUSC-013 | Construct ADA upgrades to existing bus stops | 2,411,550
CO | City of Loveland Transit | D2024-BUSC-014 and D2024-BUSC-015 | Construct a new facility | 3,967,007
CO | Colorado Department of Transportation, on behalf of Archuleta County | D2024-BUSC-016 | Construction of new park and ride facility | 418,359
CO | Colorado Department of Transportation, on behalf of Gunnison Valley Rural Transportation Authority | D2024-BUSC-017 | Purchase expansion buses | 1,516,108
CO | Colorado Department of Transportation, on behalf of the City of Durango | D2024-BUSC-018 | Rehabilitation of transit stop facilities and purchase of replacement buses | 659,089
CO | Colorado Department of Transportation, on behalf of the Town of Telluride | D2024-BUSC-019 | Construct upgrades to existing administrative and maintenance facility | 1,951,080
DE | Delaware Transit Corporation | D2024-BUSC-020 and D2024-BUSC-021 | Rehabilitate existing facility to support battery electric buses | 4,953,697
GA | Augusta-Richmond County | D2024-BUSC-022 | Purchase battery electric buses | 12,080,384
GA | Chatham Area Transit Authority | D2024-BUSC-023 | Purchase battery electric buses and charging infrastructure | 7,889,840
GA | Metropolitan Atlanta Rapid Transit Authority | D2024-BUSC-024 | Construct a new transfer hub for multimodal transportation | 25,347,982
HI | Hawaii Department of Transportation | D2024-BUSC-025 | Purchase electric hybrid buses to replace diesel buses | 5,000,000
ID | Shoshone-Bannock Tribes Public Transit Program | D2024-BUSC-026 | Purchase replacement buses | 722,400
ID | Valley Regional Transit | D2024-BUSC-027 | Refurbish existing facility to provide on-route charging infrastructure and passenger amenities | 16,723,347
KS | Johnson County Transit | D2024-BUSC-028 | Purchase replacement buses | 7,650,000
KY | Transit Authority of River City | D2024-BUSC-029 | Purchase battery electric buses | 3,643,825
MD | Howard County, Maryland | D2024-BUSC-030 | Purchase expansion buses | 960,000
ME | Maine Department of Transportation, on behalf of four transit agencies | D2024-BUSC-031 | Refurbish facilities and replace buses at four transit agencies | 3,243,434
MI | Harbor Transit Multi-Modal Transportation System | D2024-BUSC-032 | Construct new multimodal operations center | 16,252,400
MI | Nottawaseppi Huron Band of the Potawatomi | D2024-BUSC-033 | Purchase replacement bus | 539,750
MN | Minnesota Department of Transportation, on behalf of Cedar Valley Services | D2024-BUSC-034 | Construct two new transit facilities in rural areas | 6,282,400
MN | SouthWest Transit | D2024-BUSC-035 | Rehabilitation of existing facility | 520,436
MS | City of Jackson | D2024-BUSC-036 | Purchase hybrid and propane replacement and expansion buses to replace gasoline and diesel buses | 13,717,447
MT | City of Billings | D2024-BUSC-037 | Purchase of replacement paratransit buses | 910,300
NE | Santee Sioux Nation | D2024-BUSC-038 | Purchase of replacement buses | 193,033
NH | Manchester Transit Authority | D2024-BUSC-039 | Construct new transit center for service expansion | 19,922,891
NM | New Mexico Department of Transportation, on behalf of two regional transit districts | D2024-BUSC-040 | Rehabilitate existing operations facility and purchase replacement bus | 9,812,622
NV | Walker River Paiute Tribe | D2024-BUSC-041 | Purchase expansion buses and rehabilitate existing facility | 1,040,902
NY | Rochester Genesee Regional Transportation Authority | D2024-BUSC-042 | Rehabilitate existing operations facility and purchase hydrogen fuel cell buses to replace diesel buses | 18,113,192
OH | Greater Cleveland Regional Transit Authority | D2024-BUSC-043 | Purchase battery electric buses and charging infrastructure | 10,633,105
OH | Stark Area Regional Transit Authority | D2024-BUSC-044 | Rehabilitate existing facility and purchase charging infrastructure to support battery electric buses | 17,254,229
OH | Western Reserve Transit Authority | D2024-BUSC-045 | Rehabilitation of existing facility to accommodate battery electric buses | 1,312,000
OK | Cherokee Nation | D2024-BUSC-046 | Purchase replacement buses | 458,250
PA | Washington County Transportation Authority | D2024-BUSC-047 | Construction of new maintenance facility | 15,000,000
RI | Rhode Island Public Transit Authority | D2024-BUSC-048 | Rehabilitate existing maintenance facility | 7,407,963
TN | Regional Transportation Authority | D2024-BUSC-049 | Rehabilitate existing facility into multimodal transit center | 10,000,000
TN | Tennessee Department of Transportation, on behalf of the Southwest Human Resources Agency | D2024-BUSC-050 | Construct new operations facility | 7,790,400
TX | Texas Department of Transportation, on behalf of thirty rural transit districts | D2024-BUSC-051 | Construct new facilities and purchase replacement buses throughout the state | 26,880,000
WA | King County Metro Transit | D2024-BUSC-052 | Rehabilitate existing facility to support battery electric buses and purchase battery electric buses and charging infrastructure | 6,680,083
WA | Pierce County Public Transportation Benefit Area Corporation | D2024-BUSC-053 | Purchase expansion battery electric buses and related charging infrastructure | 14,784,753
WA | Washington State Department of Transportation, on behalf of Clallam Transit System | D2024-BUSC-054 | Purchase replacement buses | 3,655,000
WA | Washington State Department of Transportation, on behalf of Grays Harbor Transit Authority | D2024-BUSC-055 | Rehabilitate existing operations facility | 2,639,564
WA | Washington State Department of Transportation, on behalf of Island Transit | D2024-BUSC-056 | Purchase hydrogen fuel cell buses | 14,959,971
WI | City of Appleton | D2024-BUSC-057 | Rehabilitate existing operations facility | 12,000,000
Total |  |  |  | 390,198,372

[FR Doc. 2024-16434 Filed 7-25-24; 8:45 am]

BILLING CODE 4910-57-P